POSTAL SERVICE

Privacy Act of 1974; System of Records

AGENCY: Postal Service®.

ACTION: Notice of modified systems of records.

SUMMARY: The United States Postal Service® (Postal Service) is proposing to revise a Customer Privacy Act System of Records (SOR). This modification is being made to establish a new retention period for cloud-based mailpiece image storage, specific to the Informed Delivery® feature.

DATES: These revisions will become effective without further notice on July 13, 2022, unless in response to comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service has determined that Customer Privacy Act System of Records, USPS 820.300 Informed Delivery, should be revised to implement a new retention period for cloud-based mailpiece image storage.

I. Background

The Postal Service has determined that Customer Privacy Act Systems of Records (SOR), USPS 820.300 Informed Delivery, should be revised to implement a new retention period of 14 days for cloud-based mailpiece image storage.

II. Rationale for Changes to USPS Privacy Act Systems of Records

The Postal Service constantly seeks to improve efficiency and customer satisfaction. The Postal Service recently revised this Informed Delivery System of Records to implement a new cloud-based storage solution for mail images. In consideration of comments received to this previous notice, a new retention period has been established relating specifically to the storage of these mailpiece images.

III. Description of the Modified System of Records

To implement the change to a cloud-based platform, this System of Records will be modified to include one new retention period of 14 days relating to the cloud-based storage of Informed Delivery mailpiece images.

Pursuant to 5 U.S.C. 552a(e)(11), interested persons are invited to submit written data, views, or arguments on this proposal. A report of the proposed revisions has been sent to Congress and to the Office of Management and Budget for their evaluations. The Postal Service does not expect this amended system of records to have any adverse effect on individual privacy rights. The notice for USPS SOR 820.300, Informed Delivery is provided below in its entirety, as follows:

SYSTEM NAME AND NUMBER:

USPS 820.300, Informed Delivery®

SECURITY CLASSIFICATION:

None.

SYSTEM LOCATION:

USPS Headquarters; Contractor Sites; Cloud-based Contractor Sites; Wilkes-Barre Solutions Center; and Eagan, MN.

SYSTEM MANAGER(S):

Vice President, Innovative Business Technology, United States Postal Service, 475 L'Enfant Plaza SW, Washington, DC 20260-1010.

AUTHORITY FOR MAINTENANCE OF THE SYSTEM:

39 U.S.C. 401, 403, and 404.

PURPOSE(S) OF THE SYSTEM:

1. To support the Informed Delivery® notification service which provides customers with electronic notification of physical mail that is intended for delivery at the customer's address.

2. To provide daily email communication to consumers with images of the letter-size mailpieces that they can expect to be delivered to their mailbox each day.

3. To provide an enhanced customer experience and convenience for mail delivery services by linking physical mail to electronic content.

4. To obtain and maintain current and up-to-date address and other contact information to assure accurate and reliable delivery and fulfillment of postal products, services, and other material.

5. To determine the outcomes of marketing or advertising campaigns and to guide policy and business decisions through the use of analytics.

6. To identify, prevent, or mitigate the effects of fraudulent transactions.

7. To demonstrate the value of Informed Delivery in enhancing the responsiveness to physical mail and to promote use of the mail by commercial mailers and other postal customers.

8. To enhance the customer experience by improving the security of Change of Address (COA) and Hold Mail processes.

9. To protect USPS customers from becoming potential victims of mail fraud and identity theft.

10. To identify and mitigate potential fraud in the COA and Hold Mail processes.

11. To verify a customer's identity when applying for COA and Hold Mail services.

12. To support the Targeted Offers application which enables customers to securely share their preferences related to marketing content with mailers.

13. To facilitate the in-person enrollment process for the Informed Delivery feature.

14. To provide customers with the option to voluntarily scan the barcode on the back of government issued IDs to capture name and address information that will be used to confirm eligibility and prefill information collected during the Informed Delivery in-person enrollment process.

15. To store and send Daily Digest emails through a cloud-based service platform.

CATEGORIES OF INDIVIDUALS COVERED BY THE SYSTEM:

1. Customers who are enrolled in Informed Delivery notification service.

2. Customers who are enrolled in Targeted Offers.

3. Mailers that use Informed Delivery notification service to enhance the value of the physical mail sent to customers.

4. Mailers that use Targeted Offers to conduct more targeted digital and physical prospecting campaigns based on consumer preferences.

CATEGORIES OF RECORDS IN THE SYSTEM:

1. Customer information: Name; customer ID(s); mailing (physical) address(es) and corresponding 11-digit delivery point ZIP Code; phone number(s); email address(es); text message number(s) and carrier.

2. Customer account preferences: Individual customer preferences related Start Printed Page 2592 to email and online communication participation level for USPS and marketing information; and mail content preferences for Targeted Offers.

3. Mailer Information: Mailing Categories for mailers that use Targeted Offers.

4. Customer feedback: Information submitted by customers related to Informed Delivery notification service or any other postal product or service.

5. Subscription information: Date of customer sign-up for services through an opt-in process; date customer opts-out of services; nature of service provided.

6. Data on mailpieces: Destination address of mailpiece; Intelligent Mail barcode (IMb); 11-digit delivery point ZIP Code; and delivery status; identification number assigned to equipment used to process mailpiece.

7. Mail Images: Electronic files containing images of mailpieces captured during normal mail processing operations.

8. User Data associated with 11-digit ZIP Codes: Information related to the user's interaction with Informed Delivery email messages, including but not limited to, email open and click-through rates, dates, times, and open rates appended to mailpiece images (user data is not associated with personally identifiable information).

9. Data on Mailings: Intelligent Mail barcode (IMb) and its components including the Mailer Identifier (Mailer ID or MID), Service Type Identifier (STID) Serial Number, and unique IA code.

10. In-Person enrollment process: Name and address information collected from the voluntary scan of the barcode on the back of government issued IDs used to confirm eligibility and prefill enrollment information.

11. Data associated with Informed Delivery emails: Technical information related to email addresses and deliveries, including emails sent, emails received, errors, user data, account data, data related to the detection and mitigation of technical issues, and any other information necessary to the effective and efficient administration of services related to the Informed Delivery feature.

12. Cloud service Accepted Audit Log: Event, ID, Timestamp, Log Level, Method, Envelope Targets, Envelope Transports, Envelope Sender, Flags, Message Headers, Message To, Message ID, Message From Email Address, Message Subject, Message Attachments, Message Recipients, Recipient Email Address, Size, Storage URL, Storage Key, Recipient Domain, Campaign, Tags, User Variables.

13. Cloud service Accepted (Routed) Audit Log: Event, ID, Timestamp, Log Level, Method, Route Expression, Route ID, Route Match Recipient, Envelope Targets, Envelope Transports, Envelope Sender, Flags- Is Routed, Flags- Is Authenticated, Flags- Is System Test, Flags Is Test Mode, Message Headers, Message To, Message ID, Message From Email Address, Message Subject, Message Attachments, Message Recipients, Recipient Email Address, Message Size, Storage URL, Storage Key, Recipient Domain, Campaign, Tags, User Variables.

14. Cloud service Delivered Audit Log: Event, ID, Timestamp, Log Level, Method, Envelope Targets, Envelope Transports, Envelope Sender, Flags- Is Routed, Flags- Is Authenticated, Flags- Is System Test, Flags Is Test Mode Delivery Status TLS, Delivery Status MX Host, Deliver Status Code, Delivery Status Description, Delivery Status Session Seconds, Delivery Status UTF8, Delivery Status Attempt Number, Delivery Status Message, Delivery Status Certificated Verified, Message Headers, Message To, Message ID, Message From Email Address, Message Subject, Message Attachments, Recipient Email Address, Message Size, Storage URL, Storage Key, Recipient Domain, Campaign, Tags, User Variables.

15. Cloud service Failed (Permanent) Audit Log: Flags- Event, ID, Timestamp, Log Level, Severity, Reason, Envelope Targets, Envelope Transports, Envelope Sender, Is Routed, Flags Is-Routed, Flags- Is Authenticated, Flags- Is System Test, Flags Is Test Mode, Delivery Status Attempt Number, Delivery Status Message, Delivery Status Code, Delivery Status Description, Delivery Status Session Seconds, Message Headers, Message To, Message ID, Message From Email Address, Message Subject, Message Attachments, Recipient Email Address, Message Size, Storage URL, Storage Key, Recipient Domain, Campaign, Tags, User Variables.

16. Cloud service Failed (Permanent, Delayed Bounce) Audit Log: Event, ID, Timestamp, Log Level, Severity, Reason, Delivery Status Message, Delivery Status Code, Delivery Status Description, Flags Is-Delayed-Bounce, Flags Is-Test-Mode, Message Headers, Message To, Message ID, Message From Email Address, Message Subject, Message Attachments, Message Size, Recipient Email Address, Campaigns, Tags, User Variables.

17. Cloud service Failed (Temporary) Audit Log: Event, ID, Timestamp, Log Level, Severity, Reason, Envelope Transport, Envelope Sender, Envelope Sending IP Address, Envelope Targets, Flags Id-Routed, Flags Is-Authenticated, Flags Is-System-Test, Flags Is-Test-Mode, Delivery Status TLS, Deliver Status MX Host, Delivery Status Code, Delivery Status Description, Delivery Status Session Seconds, Delivery Status Retry Seconds, Delivery Status Attempt Number, Delivery Status Message, Delivery Status Certificate Verified, Message Headers, Message To, Message ID, Message From Email Address, Message Subject, Message Attachments, Message Size, Storage URL, Storage Key, Recipient Email Address, Recipient Domain, Campaigns, Tags, User Variables.

18. Cloud service Unsubscribed Audit Log: Event, ID, Timestamp, Log Level, Recipient Email Address, Geolocation Country, Geolocation Region, Geolocation City, Campaigns, Tags, User Variables, IP Address, Client Info Client Type, Client Info Client Operating System, Client Info Device Type, Client Info Client Name, Client Info User Agent, Message Headers, Message ID.

19. Cloud service Complained Audit Log: Event, ID, Timestamp, Log Level, Recipient Email Address, Tags, Campaigns, User Variables, Flags Is-Test-Mode, Message Headers, Message To, Message ID, Message From, Message Subject, Message Attachments, Message Size.

20. Cloud service Stored Audit Log: Event, ID, Timestamp, Log Level, Flags Is-Test-Mode, Message Headers, Message To, Message ID, Message From, Message Subject, Message Attachments, Message Recipients, Message Size, Storage URL, Storage Key, Campaigns, Tags, User Variables.

21. Cloud service Rejected Audit Log: Event, ID, Timestamp, Log Level, Flags Is-Test-Mode, Reject Reason, Reject Description, Message Headers, Message To, Message ID, Message From, Message Subject, Message Attachments, Message Size, Campaigns, Tags, User Variables.

RECORD SOURCE CATEGORIES:

Individual customers who request to enroll in the Informed Delivery feature notification service; usps.com account holders; other USPS systems and applications including those that support online change of address, mail hold services, Premium Forwarding Service, or P.O. Boxes Online; commercial entities, including commercial mailers or other Postal Service business partners and third-party mailing list providers.

ROUTINE USES OF RECORDS MAINTAINED IN THE SYSTEM, INCLUDING CATEGORIES OF USERS AND PURPOSES OF SUCH USES:

Standard routine uses 1. through 7., 10., and 11. apply.

POLICIES AND PRACTICES FOR STORAGE OF RECORDS:

Automated database and computer storage media.

POLICIES OF PRACTICES FOR RETRIEVAL OF RECORDS:

By customer email address, 11-Digit ZIP Code and/or the Mailer ID component of the Intelligent Mail Barcode.

POLICIES AND PRACTICES FOR RETENTION AND DISPOSAL OF RECORDS:

1. Mailpiece images will be retained up to 7 days (mailpiece images are not associated with personally identifiable information). Records stored in the subscription database are retained until the customer cancels or opts out of the service.

2. Cloud-based mailpiece images will be retained for 14 days.

3. User data is retained for 2 years, 11 months.

4. Records relating to Cloud Storage Audit Logs are retained for 13 months.

Records existing on computer storage media are destroyed according to the applicable USPS media sanitization practice. Any records existing on paper will be destroyed by burning, pulping, or shredding.

ADMINISTRATIVE, TECHNICAL, AND PHYSICAL SAFEGUARDS:

Computers and computer storage media are located in controlled-access areas under supervision of program personnel. Access to these areas is limited to authorized personnel, who must be identified with a badge. Access to records is limited to individuals whose official duties require such access. Contractors and licensees are subject to contract controls and unannounced on-site audits and inspections. Computers are protected by mechanical locks, card key systems, or other physical access control methods. The use of computer systems is regulated with installed security software, computer logon identifications, and operating system controls including access controls, terminal and transaction logging, and file management software. Online data transmissions are protected by encryption. Access is controlled by logon ID and password. Online data transmissions are protected by encryption.

RECORD ACCESS PROCEDURES:

Requests for access must be made in accordance with the Notification Procedure above and USPS Privacy Act regulations regarding access to records and verification of identity under 39 CFR 266.5.

CONTESTING RECORD PROCEDURES:

See Notification Procedures below or Record Access Procedures above.

NOTIFICATION PROCEDURES:

Customers who want to know if information about them is maintained in this system of records must address inquiries in writing to the system manager. Inquiries must contain name, address, email, and other identifying information.

EXEMPTIONS PROMULGATED FOR THE SYSTEM:

None.

HISTORY:

March 17, 2022, 87 FR 15275; December 15, 2021, 86 FR 71299; December 27, 2018, 83 FR 66768; August 25, 2016, 81 FR 58542.

* * * * *

Joshua J. Hofer,
Attorney, Ethics & Legal Compliance.

[FR Doc. 2022-12607 Filed 6-10-22; 8:45 am]

BILLING CODE P